DEPARTMENT OF HEALTH AND HUMAN SERVICES

Centers for Disease Control and Prevention

Advisory Committee to the Director (ACD); Correction

AGENCY: Centers for Disease Control and Prevention, Department of Health and Human Services (HHS).

ACTION: Notice.

SUMMARY: The Centers for Disease Control and Prevention (CDC), within the Department of Health and Human Services (HHS), is seeking nominations for membership on the Advisory Committee to the Director (ACD). The ACD consists of up to 15 experts knowledgeable in areas pertinent to the CDC mission, such as public health, global health, health disparities, biomedical research, and other fields, as applicable.

SUPPLEMENTARY INFORMATION: Notice is hereby given of a change in the solicitation of nominations for appointment to Advisory Committee to the Director (ACD), CDC; due on June 5, 2023, as published in the original FRN on May 5, 2023 to July 5, 2023.

The solicitation of nominations for appointment to ACD CDC was published in the Federal Register on May 5, 2023, Volume 88, Number 87, pages 29130-29131.

The solicitation of nominations for appointment to the ACD CDC is being corrected to extend the request for nominations to close on July 5, 2023, and should read as follows:

DATES: Nominations for membership on the ACD CDC must be received no later than July 5, 2023.

FOR FURTHER INFORMATION CONTACT: Bridget Richards, MPH, Centers for Disease Control and Prevention, Office of the Chief of Staff, 1600 Clifton Road NE, MS H21-10, Atlanta, Georgia 30329-4027, Telephone: (404) 718-5028; Email Address: ACDirector@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-11854 Filed 6-2-23; 8:45 am]

BILLING CODE 4163-18-P